ENVIRONMENTAL PROTECTION AGENCY

[EPA-HQ-OPPT-2013-0721; FRL-8768-01-OCSPP]

Agency Information Collection Activities; Proposed Renewal of an Existing Collection and Request for Comment; Chemical Data Reporting Under the Toxic Substances Control Act (TSCA)

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Chemical Data Reporting under the Toxic Substances Control Act (TSCA)” and identified by EPA ICR No. 1884.13 and OMB Control No. 2070-0162, represents the renewal of an existing ICR that is scheduled to expire on April 30, 2022. Before submitting the ICR to OMB for review and approval under the PRA, EPA is soliciting comments on specific aspects of the proposed information collection that is summarized in this document. The ICR and accompanying material are available in the docket for public review and comment.

DATES: Comments must be received on or before November 22, 2021.

ADDRESSES: Submit your comments, identified by docket identification (ID) number EPA-HQ-OPPT-2013-0721, through http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is closed to visitors with limited exceptions. The staff continues to provide remote customer service via email, phone, and webform. For the latest status information on EPA/DC and docket access, visit https://www.epa.gov/dockets.

FOR FURTHER INFORMATION CONTACT: Susan Sharkey, Data Gathering and Analysis Division (7410M), Office of Pollution Prevention and Toxics, Environmental Protection Agency, 1200 Pennsylvania Ave. NW, Washington, DC 20460-0001; telephone number: (202) 564-8789; email address: susan.sharkey@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Chemical Data Reporting under the Toxic Substances Control Act (TSCA).

ICR number: EPA ICR No. 1884.13.

OMB control number: OMB Control No. 2070-0162.

ICR status: This ICR is currently scheduled to expire on April 30, 2022. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This information collection request addresses the paperwork requirements contained in the most recent Chemical Data Reporting (CDR) rule under the TSCA. Under TSCA section 8(a), EPA is authorized to collect certain information on chemical substances manufactured (including imported) or processed in the United States. The CDR was formerly known as the Inventory Update Rule (IUR).

The CDR collection provides chemical manufacture, processing, and use information that helps EPA identify what chemicals the public may be exposed to as consumers or in commercial and industrial settings. The data also help EPA assess routes of potential exposure to those chemicals. Beginning in 1986, EPA has used the CDR rule eight times to collect basic manufacturing information for selected chemical substances on the TSCA Inventory. More recent collections, beginning in 2006, included additional information relating to the manufacture, processing, and use of those chemical substances. The reporting requirements have been modified through rulemaking, with the most recent major changes occurring in 2020 when EPA promulgated the TSCA Chemical Data Reporting Revisions Under TSCA Section 8(a) rule (85 FR 20122, April 9, 2020) (FRL-10005-56) and the Small Manufacturer Definition Update for Reporting and Recordkeeping Requirements under the TSCA Section 8(a) (85 FR 31986, May 28, 2020) (FRL-10008-14). The 2020 revisions included a phase-in approach for some of its provisions. All provisions will be fully implemented for the 2024 CDR reporting cycle. The changes are described on EPA's CDR web page, at: https://www.epa.gov/chemical-data-reporting/summary-reporting-requirement-changes-due-cdr-revisions-and-small, The CDR collection is on a four-year reporting cycle and contains detailed manufacturing, processing, and use information drawn from the principal reporting year; the rule also contains basic information on production volume, by year, for the three years prior to the principal reporting year (e.g., for the 2024 reporting cycle, the principal reporting year will be 2023; the three years prior will be 2020, 2021, and 2022).

EPA uses the CDR data in its chemical substance risk-management efforts and for other uses. Individual sites manufacturing (including importing) chemical substances will submit the required information. The information will be stored electronically for reference by EPA staff and others. Within the constraints of confidentiality claims, the information will be made public through the Agency's website: https://www.epa.gov/chemical-data-reporting. Further discussion on how the information is used, stored, and collected is included in this document.

Burden statement: The annual public reporting and recordkeeping burden for this collection of information is estimated to annual average 135 hours per response. Burden is defined in 5 CFR 1320.3(b).

The ICR, which is available in the docket along with other related materials, provides a detailed explanation of the collection activities and the burden estimate that is only briefly summarized here:

Respondents/Affected Entities: You may be potentially affected by this action if you manufacture, process, import, or distribute in commerce chemical substances and mixtures. The following North American Industrial Classification System (NAICS) codes have been provided to assist you and others in determining whether this action might apply to certain entities. Potentially affected entities may include, but are not limited to the following: 325 Chemical Manufacturing and 324 Petroleum and Coal Product Manufacturing

Respondent's obligation to respond: Mandatory; TSCA section 8 and 40 CFR 711.

Estimated total number of potential respondents: 5,460.

Frequency of response: Every four years.

Estimated total average number of responses for each respondent: 7.38.

Estimated total annual burden hours: 735,456 hours.

Estimated total annual costs: $79,267,359. This includes an estimated burden cost of $79,267,359 and an estimated cost of $0 for capital investment or maintenance and operational costs.

III. Are there changes in the estimates from the last approval?

There is an increase in total annual costs compared with that identified in the ICR currently approved by OMB. The primary reason for changes in respondent burden and cost are a result of changes from finalized regulatory actions in 2020. In addition, the increase in the respondent burden and agency costs were caused by an increase in the hourly wages and a change in the methodology to calculate loaded wages (wages plus fringe benefits and overhead). Please refer to Handbook on Valuing Changes in Time Use Induced by Regulatory Requirements and Other U.S. EPA Actions. This change is an adjustment.

In addition, OMB has requested that EPA move towards using the 18-question format for ICR Supporting Statements used by other federal agencies and departments and is based on the submission instructions established by OMB in 1995, replacing the alternate format developed by EPA and OMB prior to 1995. The Agency does not expect this change in format to result in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments. If you have any questions about this ICR or the approval process, please contact the person listed under FOR FURTHER INFORMATION CONTACT.

Authority: 15 U.S.C. 2601 et seq.

Dated: September 15, 2021.
Michal Freedhoff,
Assistant Administrator, Office of Chemical Safety and Pollution Prevention.

[FR Doc. 2021-20355 Filed 9-20-21; 8:45 am]

BILLING CODE 6560-50-P